ENVIRONMENTAL PROTECTION AGENCY

40 CFR Part 300

[EPA-HQ-SFUND-1989-0011; FRL-9975-74-Region 9]

National Oil and Hazardous Substances Pollution Contingency Plan; National Priorities List: Partial Deletion of the Pacific Coast Pipe Lines Superfund Site

AGENCY: Environmental Protection Agency (EPA).

ACTION: Final rule.

SUMMARY: The Environmental Protection Agency (EPA) Region 9 announces the deletion of the surface soil portion of the Pacific Coast Pipe Lines (PCPL) Superfund Site (Site) located in Fillmore, California, from the National Priorities List (NPL). The NPL, promulgated pursuant to Section 105 of the Comprehensive Environmental Response, Compensation, and Liability Act (CERCLA) of 1980, as amended, is an appendix of the National Oil and Hazardous Substances Pollution Contingency Plan (NCP). This partial deletion pertains only to the surface soil at the Site. The groundwater will remain on the NPL and is not being considered for deletion as part of this action. EPA and the State of California, through the Department of Toxic Substances Control, have determined that all appropriate response actions under CERCLA, other than maintenance, monitoring and five-year reviews, have been completed. However, the deletion of the soil portion of the Site does not preclude future actions under Superfund.

DATES: This action is effective March 22, 2018.

ADDRESSES: EPA has established a docket for this action under Docket Identification No. EPA-HQ-SFUND-1989-0011. All documents in the docket are listed on the http://www.regulations.gov website. Although listed in the index, some information is not publicly available, i.e., Confidential Business Information and other information whose disclosure is restricted by statute. Certain other material, such as copyrighted material, is not placed on the internet and will be publicly available only in hard copy form. Publicly available docket materials are available either electronically through http://www.regulations.gov or in hard copy at the site information repositories. Locations, contacts, phone numbers and viewing hours are:

Superfund Records Center, 75 Hawthorne Street, Room 3110, San Francisco, California, Hours: 8:00 a.m.-4:00 p.m.; (415) 947-8717.

Site Repository: Fillmore Library, 502 2nd Street, Fillmore, California. Call (805) 524-3355 for hours of operation.

FOR FURTHER INFORMATION CONTACT: Holly Hadlock, Remedial Project Manager, U.S. EPA, Region 9 (SFD-7-3), 75 Hawthorne Street, San Francisco, CA 94105, (415) 972-3171, email: hadlock.holly@epa.gov.

SUPPLEMENTARY INFORMATION: The portion of the Site to be deleted from the NPL is the surface soils at the Pacific Coast Pipe Lines Superfund Site, Fillmore, California. A Notice of Intent for Partial Deletion for this Site was published in the Federal Register (82 FR 60943-60946) on December 26, 2017. The closing date for comments on the Notice of Intent for Partial Deletion was January 25, 2018.

Eight public comments were received: Five supported EPA's decision to delete the surface soil from the NPL, two opposed, and one was not related to the proposed partial deletion. The commenters who opposed the action want the soil portion of the Site to remain on the NPL. EPA believes the partial deletion action is appropriate because the NPL deletion criterion established by the NCP has been met; the responsible party, Texaco, Inc., has implemented all appropriate response actions for surface soil set forth in the 2011 ROD Amendment, which selected the remedy for contaminated soils at the Site. Based on available data, EPA has determined that no further response action for soil at the Site is necessary. EPA will conduct five-year reviews to determine if the cleanup remains protective of human health and the environment. A responsiveness summary was prepared and placed in both the docket, EPA-HQ-SFUND-1989-0011, on www.regulations.gov, and in the local repositories listed above.

EPA maintains the NPL as the list of sites that appear to present a significant risk to public health, welfare, or the environment. Deletion of a site from the NPL does not preclude further remedial action at the site. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: March 12, 2018.
Alexis Strauss,
Acting Regional Administrator.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by revising the entry for “Pacific Coast Pipe Lines” to read as follows:

Appendix B to Part 300—National Priorities List

Table 1—General Superfund Section
State | Site name | City/County | Notes ᵃ
* * * * * * *
CA | Pacific Coast Pipe Lines | Fillmore | P
* * * * * * *
ᵃ = Based on issuance of health advisory by Agency for Toxic Substances and Disease Registry (if scored, HRS score need not be greater than or equal to 28.50).
* * * * * * *
P = Sites with partial deletion(s).
* * * * * * *

[FR Doc. 2018-05752 Filed 3-21-18; 8:45 am]

BILLING CODE 6560-50-P